DEPARTMENT OF AGRICULTURE

Food Safety and Inspection Service

[Docket No. FSIS-2018-0020]

Notice of Request for a New Information Collection: Food Defense Vulnerability Questionnaire

AGENCY: Food Safety and Inspection Service, USDA.

ACTION: Notice and request for comments.

SUMMARY: In accordance with the Paperwork Reduction Act of 1995 and Office of Management and Budget (OMB) regulations, the Food Safety and Inspection Service (FSIS) is announcing its intention to collect information from food industry and academic experts on vulnerabilities and research activities related to food defense for FSIS-regulated food products. The purpose of this information collection is to inform FSIS food defense efforts to help protect against an intentional attack on the food supply.

DATES: Submit comments on or before September 17, 2018.

ADDRESSES: FSIS invites interested persons to submit comments on this Federal Register notice. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0020. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION:

Title: Food Defense Vulnerability Questionnaire

Type of Request: New information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

FSIS's Office of Data Integration and Food Protection (ODIFP) develops, maintains, and coordinates all FSIS activities to prevent, prepare for, respond to, and recover from significant incidents resulting from intentional contamination or deliberate acts of terrorism and other significant incidents affecting meat, poultry, and processed egg products. Food defense is the protection of food products from intentional contamination intended to harm public health or cause economic disruption. As part of ODIFP, the Food Defense Assessment Staff works with government agencies, industry, and other organizations to develop and implement strategies to prevent, protect against, mitigate, respond to, and recover from intentional contamination of the food supply. FSIS food defense activities are guided by national policies and directives, including Homeland Security Presidential Directive Nine, which requires USDA to perform vulnerability assessments of the food system and update these vulnerability assessments every two years.

FSIS strives to continually assess current food defense vulnerabilities, identify new food defense vulnerabilities, and remain aware of current and planned food defense research efforts. In order to help inform FSIS food defense activities and help protect against an intentional attack on the food supply, FSIS will administer a series of questionnaires to food industry and academic experts on vulnerabilities and research activities in the area of food defense for FSIS-regulated food products.

The first questionnaire will be conducted in Fiscal Year (FY) 2019, and the second and third questionnaires will be conducted in FY 2020 and FY 2021 respectively. The questionnaire will be administered to approximately 170 food industry and academic experts each fiscal year (FY 2019, FY 2020, and FY 2021).

The results from the FY 2019 questionnaire will inform FSIS's food defense activities, including vulnerability assessment efforts.

Estimate of Burden:

Estimated Annual Reporting Burden for the FY 2019 Questionnaire
Respondents | Number of respondents | Participation time | Burden (hours)
Food industry and academic experts | 170 | 40 minutes | 113.3

Estimated Annual Reporting Burden for the FY 2020 Questionnaire
Respondents | Number of respondents | Participation time | Burden (hours)
Food industry and academic experts | 170 | 40 minutes | 113.3

Estimated Annual Reporting Burden for the FY 2021 Questionnaire
Respondents | Number of respondents | Participation time | Burden (hours)
Food industry and academic experts | 170 | 40 minutes | 113.3

Respondents: Food Industry and Academic Experts.

Estimated Number of Respondents: 510.

Estimated Number of Annual Responses per Respondent: 1.

Estimated Total Burden on Respondents: 340 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Paul Kiecker,
Acting Administrator.

[FR Doc. 2018-15461 Filed 7-18-18; 8:45 am]

BILLING CODE 3410-DM-P